DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive, officer of community | Community map, repository | Date of modification | Community No.
Colorado:
Eagle (FEMA Docket No.: B-2067) | Town of Basalt (20-08-0275P). | Mr. Ryan Mahoney, Manager, Town of Basalt, 101 Midland Avenue, Basalt, CO 81621. | Town Hall, 101 Midland Avenue, Basalt, CO 81621. | Jan. 26, 2021 | 080052
Eagle (FEMA Docket No.: B-2067) | Unincorporated areas of Eagle County (20-08-0275P). | Mr. Jeff Schroll, Eagle County Manager, P.O. Box 850, Eagle, CO 81631. | Eagle County Engineering Department, 500 Broadway Street, Eagle, CO 81631. | Jan. 26, 2021 | 080051
Connecticut: Fairfield (FEMA Docket No.: B-2067) | Town of Darien (20-01-0611P). | The Honorable Jayme J. Stevenson, First Selectman, Town of Darien Board of Selectmen, 2 Renshaw Road, Room 202, Darien, CT 06820. | Planning and Zoning Department, 2 Renshaw Road, Darien, CT 06820. | Jan. 22, 2021 | 090005
Florida:
Bay (FEMA Docket No.: B-2067) | City of Panama City Beach (20-04-1474P). | The Honorable Mark Sheldon, Mayor, City of Panama City Beach, 116 South Arnold Road, Panama City Beach, FL 32413. | Building Division, 116 South Arnold Road, Panama City Beach, FL 32413. | Jan. 28, 2021 | 120013
Collier (FEMA Docket No.: B-2067) | City of Marco Island (20-04-4781P). | Mr. Mike McNees, Manager, City of Marco Island, 50 Bald Eagle Drive, Marco Island, FL 34145. | Building Services Department, 50 Bald Eagle Drive, Marco Island, FL 34145. | Jan. 22, 2021 | 120426
Collier (FEMA Docket No.: B-2064) | City of Naples (20-04-3512P). | The Honorable Teresa Heitmann, Mayor, City of Naples, 735 8th Street South, 2nd Floor, Naples, FL 34102. | Building Department, 295 Riverside Circle, Naples, FL 34102. | Jan. 19, 2021 | 125130
Lee (FEMA Docket No.: B-2067) | Town of Fort Myers Beach (20-04-3679P). | The Honorable Ray Murphy, Mayor, Town of Fort Myers Beach, 2525 Estero Boulevard, Fort Myers Beach, FL 33931. | Community Development Department, 2525 Estero Boulevard, Fort Myers Beach, FL 33931. | Jan. 19, 2021 | 120673
Monroe (FEMA Docket No.: B-2067) | Unincorporated areas of Monroe County (20-04-4173P). | The Honorable Heather Carruthers, Mayor, Monroe County Board of Commissioners, 500 Whitehead Street, Suite 102, Key West, FL 33040. | Monroe County Building Department, 2798 Overseas Highway, Suite 300, Marathon, FL 33050. | Jan. 19, 2021 | 125129
Palm Beach (FEMA Docket No.: B-2067) | Unincorporated areas of Palm Beach County (19-04-6690P). | The Honorable Dave Kerner, Mayor, Palm Beach County, 301 North Olive Avenue, Suite 1201, West Palm Beach, FL 33401. | Palm Beach County Department of Planning, Zoning and Building Department, 2300 North Jog Road, West Palm Beach, FL 33401. | Jan. 29, 2021 | 120192
Maine: Knox (FEMA Docket No.: B-2073) | Town of Vinalhaven (20-01-0545P). | Mr. Andrew J. Dorr, Manger, Town of Vinalhaven, 19 Washington School Road, Vinalhaven, ME 04863. | Planning and Community Development Department, 19 Washington School Road, Vinalhaven, ME 04863. | Jan. 29, 2021 | 230230
Montana: Lewis and Clack (FEMA Docket No.: B-2067) | City of Helena (20-08-0095P). | The Honorable Wilmot Collins, Mayor, City of Helena, 316 North Park Avenue, Room 323, Helena, MT 59623. | City Hall, 316 North Park Avenue, Helena, MT 59623. | Jan. 28, 2021 | 300040
New Hampshire:
Rockingham (FEMA Docket No.: B-2067) | Town of Salem (20-01-0650P). | Mr. Christopher A. Dillon, Manager, Town of Salem, 33 Geremonty Drive, Salem, NH 03079. | Town Hall, 33 Geremonty Drive, Salem, NH 03079. | Jan. 19, 2021 | 330142
Strafford (FEMA Docket No.: B-2067) | City of Dover (20-01-0517P). | The Honorable Robert Carrier, Mayor, City of Dover, 288 Central Avenue, Dover, NH 03820. | Planning Department, 288 Central Avenue, Dover, NH 03820. | Jan. 26, 2021 | 330145
Oklahoma:
Payne (FEMA Docket No.: B-2067) | City of Stillwater (20-06-0276P). | The Honorable Will Joyce, Mayor, City of Stillwater, 723 South Lewis Street, Stillwater, OK 74047. | Development Services Department, 723 South Lewis Street, Stillwater, OK 74047. | Jan.22, 2021 | 405380
Payne (FEMA Docket No.: B-2067) | Unincorporated areas of Payne County (20-06-0276P). | The Honorable Kent Bradley, Chairman, Payne County Board of Commissioners, 506 Expo Circle South, Stillwater, OK 74074. | Payne County Administrative Building, 315 West 6th Street, Suite 203, Stillwater, OK 74074. | Jan. 22, 2021 | 400493
South Carolina: Lexington (FEMA Docket No.: B-2064) | Unincorporated areas of Lexington County (20-04-1249P). | The Honorable Scott Whetstone, Chairman, Lexington County Council, 212 South Lake Drive, Suite 601, Lexington, SC 29072. | Lexington County Community Development Department, 212 South Lake Drive, Suite 601, Lexington, SC 29072. | Jan. 22, 2021 | 450129
Tennessee:
Shelby (FEMA Docket No.: B-2067) | City of Memphis (20-04-1185P). | The Honorable Jim Strickland, Mayor, City of Memphis, 125 North Main Street, Room 700, Memphis, TN 38103. | Engineering Division, 125 North Main Street, Room 677, Memphis, TN 38103. | Jan. 27, 2021 | 470177
Shelby (FEMA Docket No.: B-2067) | Unincorporated areas of Shelby County (20-04-1185P). | The Honorable Lee Harris, Mayor, Shelby County, 160 North Main Street, Memphis, TN 38103. | Shelby County Department of Engineering, 6463 Haley Road, Memphis, TN 38134. | Jan. 27, 2021 | 470214
Texas:
Bexar (FEMA Docket No.: B-2073) | City of San Antonio (19-06-1446P). | The Honorable Ron Nirenberg, Mayor, City of San Antonio, P.O. Box 839966, San Antonio, TX 78283. | Transportation and Capital Improvements Department, Stormwater Division, 114 West Commerce, 7th Floor, San Antonio, TX 78205. | Feb. 1, 2021 | 480045
Bexar (FEMA Docket No.: B-2073) | City of San Antonio (19-06-3670P). | The Honorable Ron Nirenberg, Mayor, City of San Antonio, P.O. Box 839966, San Antonio, TX 78283. | Transportation and Capital Improvements Department, Stormwater Division, 114 West Commerce, 7th Floor, San Antonio, TX 78205. | Jan. 25, 2021 | 480045
Dallas (FEMA Docket No.: B-2073) | City of Dallas (20-06-0418P). | The Honorable Eric Johnson, Mayor, City of Dallas, 1500 Marilla Street, Suite 5EN, Dallas, TX 75201. | Floodplain Management Department, 320 East Jefferson Boulevard, Suite 307, Dallas, TX 75203. | Feb. 1, 2021 | 480171
Dallas (FEMA Docket No.: B-2073) | City of Dallas (20-06-1125P). | The Honorable Eric Johnson, Mayor, City of Dallas, 1500 Marilla Street, Suite 5EN, Dallas, TX 75201. | Floodplain Management Department, 320 East Jefferson Boulevard, Suite 307, Dallas, TX 75203. | Feb. 1, 2021 | 480171
Dallas (FEMA Docket No.: B-2073) | City of Farmers Branch (20-06-1125P). | The Honorable Robert C. Dye, Mayor, City of Farmers Branch, 13000 William Dodson Parkway, Farmers Branch, TX 75234. | City Hall, 13000 William Dodson Parkway, Farmers Branch, TX 75234. | Feb. 1, 2021 | 480174
Denton (FEMA Docket No.: B-2067) | City of Sanger (20-06-1045P). | The Honorable Thomas Muir, Mayor, City of Sanger, P.O. Box 1729, Sanger, TX 76266. | City Hall, 201 Bolivar Street, Sanger, TX 76266. | Jan. 25, 2021 | 480786
Denton (FEMA Docket No.: B-2067) | Unincorporated areas of Denton County (20-06-1045P). | The Honorable Andy Eads, Denton County Judge, 110 West Hickory Street, 2nd Floor, Denton, TX 76201. | Denton County Public Works, Engineering Department, 1505 East McKinney Street, Suite 175, Denton, TX 76209. | Jan. 25, 2021 | 480774
Harris (FEMA Docket No.: B-2076) | Unincorporated areas of Harris County (20-06-2019P). | The Honorable Lina Hidalgo, Harris County Judge, 1001 Preston Street, Suite 911, Houston, TX 77002. | Harris County Permit Office, 10555 Northwest Freeway, Suite 120, Houston, TX 77092. | Feb. 1, 2021 | 480287
Tarrant (FEMA Docket No.: B-2073) | City of Crowley (20-06-1367P). | The Honorable Billy P. Davis, Mayor, City of Crowley, 201 East Main Street, Crowley, TX 76036. | City Hall, 201 East Main Street, Crowley, TX 76036. | Feb. 1, 2021 | 480591
Tarrant (FEMA Docket No.: B-2064) | City of Fort Worth (20-06-1803P). | The Honorable Betsy Price, Mayor, City of Fort Worth, 200 Texas Street, Fort Worth, TX 76102. | Transportation and Public Works Department, Engineering Vault, 200 Texas Street, Fort Worth, TX 76102. | Jan. 25, 2021 | 480596
Utah: Davis (FEMA Docket No.: B-2064) | City of Clearfield (20-08-0266P). | Mr. J.J. Allen, Manager, City of Clearfield, 55 South State Street, Clearfield, UT 84015. | City Hall, 55 South State Street, Clearfield, UT 84015. | Jan. 19, 2021 | 490041

[FR Doc. 2021-03762 Filed 2-25-21; 8:45 am]

BILLING CODE 9110-12-P